DEPARTMENT OF COMMERCE

National Oceanic and Atmospheric Administration

Agency Information Collection Activities; Submission to the Office of Management and Budget (OMB) for Review and Approval; Comment Request; Gulf of Mexico Electronic Logbook

AGENCY: National Marine Fisheries Service (NMFS), National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before August 8, 2023.

ADDRESSES: Interested persons are invited to submit written comments to Adrienne Thomas, NOAA PRA Officer, at NOAA.PRA@noaa.gov. Please reference OMB Control Number 0648-0543 in the subject line of your comments. Do not submit Confidential Business Information or otherwise sensitive or protected information.

FOR FURTHER INFORMATION CONTACT: Requests for additional information or specific questions related to collection activities should be directed to Rebecca Smith, National Marine Fisheries Service, Southeast Fisheries Science Center, Fisheries Statistics Division, 4700 Avenue U, Galveston, TX 77551, 409-210-1817, or rebecca.smith@noaa.gov.

SUPPLEMENTARY INFORMATION:

I. Abstract

This request is for an extension of a current information collection.

The Magnuson-Stevens Fishery Conservation and Management Act (Magnuson-Stevens Act) authorizes the Gulf of Mexico Fishery Management Council (Council) to prepare and amend fishery management plans for any fishery in waters under its jurisdiction. NMFS manages the commercial shrimp fishery in Federal waters of the Gulf of Mexico (Gulf) under the Fishery Management Plan for the Shrimp Fishery of the Gulf. The electronic logbook (ELB) regulations for the Gulf shrimp fishery may be found at 50 CFR 622.51(a)(2). The ELB is a device that records the position of the vessel every ten minutes. The tracks of the vessels can be examined to determine when and where shrimp trawling is occurring.

As of May 1, 2023, there are approximately 1,319 valid or renewable Federal permits to commercially harvest shrimp from the exclusive economic zone (EEZ) in the Gulf. Monitoring shrimp vessels, operating together with many other fishing vessels of differing sizes, gears types used, and fishing capabilities, is made even more challenging by seasonal variability in shrimp abundance and price, and the broad geographic distribution of the fleet. ELBs provide a precise means of estimating the amount of shrimp fishing effort. Using ELBs to estimate fishing effort serves an important role to help estimate bycatch in the Gulf shrimp fleet.

II. Method of Collection

The ELB unit automatically collects fishing effort data on a Secure Digital (SD) card. Twice per year the NMFS Galveston Laboratory mails replacement SD cards to the permit holders. The card in the ELB unit must be removed by the shrimper and mailed to the NMFS Galveston Laboratory, and replaced in the unit by the newly one received.

III. Data

OMB Control Number: 0648-0543.

Form Number(s): None.

Type of Review: Regular submission (extension of a current information collection).

Affected Public: Business or other for-profit organizations.

Estimated Number of Respondents: 1,319.

Estimated Time per Response: 2 hours.

Estimated Total Annual Burden Hours: 2,638.

Estimated Total Annual Cost to Public: $0 in recordkeeping or reporting costs.

Respondent's Obligation: Required.

Legal Authority: Fishing Regulation 50 CFR 622.51(a)(2).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-12373 Filed 6-8-23; 8:45 am]

BILLING CODE 3510-22-P